SURFACE TRANSPORTATION BOARD

[Docket No. FD 36044]

CWW, LLC—Lease and Operation Exemption—Port of Columbia, Wash.

CWW, LLC (CWW), a noncarrier, has filed a verified notice of exemption under 49 CFR 1150.31 to lease from the Port of Columbia, Wash. and to operate, approximately 37.1 miles of rail line, referred to as the Dayton Line, between milepost 33.0 near Walla Walla, Wash. and milepost 70.1 at Dayton, Wash., pursuant to an executed lease and operating agreement.

This transaction is related to a concurrently filed verified notice of exemption in Paul Didelius—Continuance in Control Exemption—CWW, LLC, Docket No. FD 36045, in which Paul Didelius seeks Board approval to continue in control of CWW under 49 CFR 1180.2(d)(2), upon CWW's becoming a Class III rail carrier.

CWW certifies that the projected annual revenues as a result of this transaction do not exceed those that would qualify it as a Class III rail carrier and states the projected annual revenues of CWW shall not exceed $5 million dollars.¹ CWW states that it expects to execute an agreement to interchange with Palouse River & Coulee City Railroad, LLC imposing no interchange commitments.

¹ By letter filed July 6, 2016, CWW supplemented its notice of exemption with a statement that the projected annual revenues of CWW shall not exceed $5 million dollars.

The transaction may be consummated on August 5, 2016, the effective date of the exemption (30 days after the verified notice of exemption was filed).² If the verified notice contains false or misleading information, the exemption is void ab initio. Petitions to revoke the exemption under 49 U.S.C. 10502(d) may be filed at any time. The filing of a petition to revoke will not automatically stay the effectiveness of the exemption. Petitions to stay must be filed by July 29, 2016 (at least seven days prior to the date the exemption becomes effective).

² Because, as noted, CWW supplemented its verified notice on July 6, 2016, that date is considered the filing date of the verified notice.

An original and 10 copies of all pleadings, referring to Docket No. FD 36044 must be filed with the Surface Transportation Board, 395 E Street SW., Washington, DC 20423-0001. In addition, a copy of each pleading must be served on applicant's representative, James H.M. Savage, 22 Rockingham Court, Germantown, MD 20874.

According to CWW, this action is categorically excluded from environmental review under 49 CFR 1105.6(c).

Board decisions and notices are available on our Web site at WWW.STB.DOT.GOV.

Decided: July 12, 2016.
By the Board, Rachel D. Campbell, Director, Office of Proceedings.
Kenyatta Clay,
Clearance Clerk.

[FR Doc. 2016-16781 Filed 7-14-16; 8:45 am]

BILLING CODE 4915-01-P